DEPARTMENT OF COMMERCE

National Oceanic and Atmospheric Administration

50 CFR Part 635

[I.D. 110800C]

Atlantic Highly Migratory Species Fisheries; Technical Gear Workshop; Postponement

AGENCY: National Marine Fisheries Service (NMFS), National Oceanic and Atmospheric Administration (NOAA), Commerce.

ACTION: Postponement of public meeting.

SUMMARY: NMFS announces the postponement of the technical gear workshop previously scheduled to discuss potential gear modifications and configurations for the Atlantic pelagic longline fishery.

FOR FURTHER INFORMATION CONTACT: Margo Schulze-Haugen or Tyson Kade at (301) 713-2347.

SUPPLEMENTARY INFORMATION: On November 21, 2000 (65 FR 69898), NMFS announced that it would conduct a workshop on December 12-13, 2000, at NMFS, Building 4 - Science Center, 1305 East-West Highway, Silver Spring, MD 20910. The purpose of the workshop is to allow fishermen, gear experts, sea turtle experts, and fishery managers to discuss possible measures, including gear and fishing method modifications, to reduce the incidental take and mortality of sea turtles in the Atlantic pelagic longline fishery. After announcing the workshop, NMFS received comment from fishermen that the scheduled dates posed a conflict with the active fishing period associated with the full moon. As participation by fishing vessel captains is an important aspect of this meeting, NMFS has agreed to reschedule the workshop. NMFS will announce a future date for this workshop in the Federal Register.

Authority: 16 U.S.C. 971 et seq., and 16 U.S.C. 1801 et seq.

Dated: November 22, 2000.
Bruce C. Morehead,
Acting Director, Office of Sustainable Fisheries, National Marine Fisheries Service.

[FR Doc. 00-30418 Filed 11-28-00; 8:45 am]

BILLING CODE 3510-22-S